DEPARTMENT OF HOMELAND SECURITY

Federal Emergency Management Agency

[Docket ID FEMA-2025-0002; Internal Agency Docket No. FEMA-B-2546]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Online location of letter of map revision | Date of modification | Community No.
Delaware:
New Castle | Unincorporated areas of New Castle County (25-03-0058P). | Marcus Henry, New Castle County Executive, 87 Reads Way, New Castle, DE 19720. | New Castle County Government Center, 87 Reads Way, New Castle, DE 19720. | https://msc.fema.gov/portal/advanceSearch. | Oct. 9, 2025 | 105085
New Castle | Unincorporated areas of New Castle County (25-03-0638P). | Marcus Henry, New Castle County Executive, 87 Reads Way, New Castle, DE 19720. | New Castle County Government Center, 87 Reads Way, New Castle, DE 19720. | https://msc.fema.gov/portal/advanceSearch. | Oct. 23, 2025 | 105085
Florida:
Brevard | City of Titusville (24-04-2838P). | Thomas Abbate, Interim Manager, City of Titusville, 555 South Washington Avenue, Titusville, FL 32796. | City Hall, 555 South Washington Avenue, Titusville, FL 32796. | https://msc.fema.gov/portal/advanceSearch. | Oct. 20, 2025 | 125152
Brevard | Unincorporated areas of Brevard County (25-04-0013P). | Jim Liesenfelt, Interim County Manager, Brevard County, 2725 Judge Fran Jamieson Way, Viera, FL 32940. | Brevard County Government Center, 2725 Judge Fran Jamieson Way, Viera, FL 32940. | https://msc.fema.gov/portal/advanceSearch. | Oct. 22, 2025 | 125152
Palm Beach | Unincorporated areas of Palm Beach County (24-04-3617P). | Verdenia C. Baker, Palm Beach County Administrator, 301 North Olive Avenue, Suite 1101, West Palm Beach, FL 33401. | Palm Beach County Vista Center, Building Division, 2300 North Jog Road, West Palm Beach, FL 33411. | https://msc.fema.gov/portal/advanceSearch. | Sep. 15, 2025 | 120192
Pasco | Unincorporated areas of Pasco County (25-04-1573P). | Mike Carballa, Pasco County Administrator, 8731 Citizens Drive, New Port Richey, FL 34654. | Pasco County Government Center, 8731 Citizens Drive, New Port Richey, FL 34654. | https://msc.fema.gov/portal/advanceSearch. | Oct. 16, 2025 | 120230
Polk | City of Auburndale (24-04-3249P). | The Honorable Dorothea Taylor Bogert, Mayor, City of Auburndale, 1 Bobby Green Plaza, Auburndale, FL 33823. | City Hall, 1 Bobby Green Plaza, Auburndale, FL 33823. | https://msc.fema.gov/portal/advanceSearch. | Sep. 18, 2025 | 120262
Polk | Unincorporated areas of Polk County (24-04-3249P). | Bill Beasley, Polk County Manager, 330 West Church Street, Bartow, FL 33830. | Polk County Land Development Division, 330 West Church Street, Bartow, FL 33830. | https://msc.fema.gov/portal/advanceSearch. | Sep. 18, 2025 | 120261
St. Johns | Unincorporated areas of St. Johns County (24-04-2427P). | Joy Andrews Administrator, St. Johns County, 500 San Sebastian View, St. Augustine, FL 32084. | St. Johns County Building, Department 500, San Sebastian View, St. Augustine, FL 32084. | https://msc.fema.gov/portal/advanceSearch. | Oct. 17, 2025 | 125147
Illinois: Will | City of Aurora (25-05-1537X). | The Honorable John Laesch, Mayor, City of Aurora, 44 East Downer Place, Aurora, IL 60505. | Public Works Department, Engineering, Division, 2185 Liberty Street, Aurora, IL 60502. | https://msc.fema.gov/portal/advanceSearch. | Oct. 24, 2025 | 170320
Massachusetts: Plymouth | Town of Mattapoisett (25-01-0680P). | Michael Lorenco, Administrator, Town of Mattapoisett, 16 Main Street, 1st Floor, Mattapoisett, MA 02739. | Building Department, 16 Main Street, 2nd Floor, Mattapoisett, MA 02739. | https://msc.fema.gov/portal/advanceSearch. | Oct. 24, 2025 | 255214
Michigan:
Wayne | City of Taylor (24-05-2505P). | The Honorable Timothy O. Woolley, Mayor, City of Taylor, 23555 Goddard Road, Taylor, MI 48180. | Public Works Department, 25605 Northline Road, Taylor, MI 48180. | https://msc.fema.gov/portal/advanceSearch. | Sep. 29, 2025 | 260728
Wayne | Township of Canton (24-05-1607P). | Anne Marie Graham-Hudak, Supervisor, Township of Canton, 1150 South Canton Center Road, Canton, MI 48188. | Municipal Complex, 1150 South Canton Center Road, Canton, MI 48188. | https://msc.fema.gov/portal/advanceSearch. | Sep. 24, 2025 | 260219
New York:
Delaware | Town of Hancock (24-02-0239P). | Jerry Vernold, Supervisor, Town of Hancock, 661 West Main Street, Hancock, NY 13783. | Town Hall, 661 West Main Street, Hancock, NY 13783. | https://msc.fema.gov/portal/advanceSearch. | Oct. 14, 2025 | 360201
Suffolk | Village of Southampton (25-02-0080P). | The Honorable William Manger, Jr., Mayor, Village of Southampton, 23 Main Street, Southampton, NY 11968. | Building Department, 23 Main Street, Southampton, NY 11968. | https://msc.fema.gov/portal/advanceSearch. | Nov. 28, 2025 | 365343
North Carolina: Durham | City of Durham (25-04-0232P). | The Honorable Leonardo Williams, Mayor, City of Durham, 101 City Hall Plaza, Durham, NC 27701. | City Hall, 101 City Hall Plaza, Durham, NC 27701. | https://msc.fema.gov/portal/advanceSearch. | Sept. 26, 2025 | 370086.
South Carolina:
Berkeley | Unincorporated areas of Berkeley County (24-04-2613P). | Johnny Cribb, Berkeley County Supervisor, 1003 North Highway 52, Moncks Corner, SC 29461. | Berkeley County Planning and Zoning Department, 1003 North Highway 52, Moncks Corner, SC 29461. | https://msc.fema.gov/portal/advanceSearch. | Oct. 2, 2025 | 450029
Greenville | City of Greenville (24-04-6984P). | The Honorable Knox White, Mayor, City of Greenville, P.O. Box 2207, Greenville, SC 29602. | Engineering Department, 204 Halton Road, 4th Floor, Greenville, SC 29607. | https://msc.fema.gov/portal/advanceSearch. | Oct. 23, 2025 | 450091
York | Town of Fort Mill (25-04-2189P). | The Honorable Guynn Savage, Mayor, Town of Fort Mill, 200 Tom Hall Street, Fort Mill, SC 29715. | Utilities Department, 131 East Elliott Street, Fort Mill, SC 29715. | https://msc.fema.gov/portal/advanceSearch. | Sep. 29, 2025 | 450195
York | Unincorporated areas of York County (25-04-2189P). | Christi Cox, Chair, York County Council, P.O. Box 66, York, SC 29745. | York County Planning and Development Services Department, 18 West Liberty Street, York, SC 29745. | https://msc.fema.gov/portal/advanceSearch. | Sep. 29, 2025 | 450193
Tennessee:
Maury | City of Spring Hill (24-04-3037P). | The Honorable Jim Hagaman, Mayor, City of Spring Hill, 199 Town Center Parkway, Spring Hill, TN 37174. | City Hall, 199 Town Center Parkway, Spring Hill, TN 37174. | https://msc.fema.gov/portal/advanceSearch. | Oct. 6, 2025 | 470278
Maury | Unincorporated areas of Maury County (24-04-3037P). | The Honorable Sheila K. Butt, Mayor, Maury County, 41 Public Square, Columbia, TN 38401. | Maury County Building and Zoning Department, 5 Public Square, Columbia, TN 38401. | https://msc.fema.gov/portal/advanceSearch. | Oct. 6, 2025 | 470123
Texas:
Bexar | City of Castle Hills (24-06-1858P). | The Honorable J.R. Trevino, Mayor, City of Castle Hills, 209 Lemonwood Drive, San Antonio, TX 78213. | City Hall, 209 Lemonwood Drive, San Antonio, TX 78213. | https://msc.fema.gov/portal/advanceSearch. | Sep. 15, 2025 | 480037
Bexar | City of San Antonio (24-06-1858P). | The Honorable Ron Nirenberg, Mayor, City of San Antonio, P.O. Box 839966, San Antonio, TX 78283. | Public Works Department, Storm Water Division, 1901 South Alamo Street, 2nd Floor, San Antonio, TX 78204. | https://msc.fema.gov/portal/advanceSearch. | Sep. 15, 2025 | 480045
Bexar | City of San Antonio (24-06-2442P). | The Honorable Ron Nirenberg, Mayor, City of San Antonio, P.O. Box 839966, San Antonio, TX 78283. | Public Works Department, Storm Water Division, 1901 South Alamo Street, 2nd Floor, San Antonio, TX 78204. | https://msc.fema.gov/portal/advanceSearch. | Sep. 22, 2025 | 480045
Collin | City of Celina (25-06-0109P). | The Honorable Ryan Tubbs, Mayor, City of Celina, 142 North Ohio Street, Celina, TX 75009. | City Hall, 142 North Ohio Street, Celina, TX 75009. | https://msc.fema.gov/portal/advanceSearch. | Oct. 20, 2025 | 480133
Collin | City of McKinney (24-06-1514P). | The Honorable George Fuller, Mayor, City of McKinney, P.O. Box 517, McKinney, TX 75069. | Engineering Department, 222 North Tennessee Street, McKinney, TX 75069. | https://msc.fema.gov/portal/advanceSearch. | Oct. 14, 2025 | 480135
Collin | City of McKinney (24-06-2453P). | The Honorable George Fuller, Mayor, City of McKinney, P.O. Box 517, McKinney, TX 75069. | Engineering Department, 222 North Tennessee Street, McKinney, TX 75069. | https://msc.fema.gov/portal/advanceSearch. | Oct. 20, 2025 | 480135
Virginia: Loudoun | Town of Leesburg (24-03-0774P). | Kaj Dentler, Manager, Town of Leesburg, 25 West Market Street, Leesburg, VA 20176. | Department of Community Development, 222 Catoctin Circle Southeast, Suite 200, Leesburg, VA 20175. | https://msc.fema.gov/portal/advanceSearch. | Oct. 6, 2025 | 510091
Wisconsin: Waukesha | Village of Sussex (24-05-2427P). | The Honorable Anthony J. LeDonne, President, Village of Sussex, N64 W23760 Main Street, Sussex, WI 53089. | Civic Center, N64 W23760 Main Street, Sussex, WI 53089. | https://msc.fema.gov/portal/advanceSearch. | Oct. 20, 2025 | 550490

[FR Doc. 2025-14880 Filed 8-5-25; 8:45 am]

BILLING CODE 9110-12-P